DEPARTMENT OF COMMERCE

International Trade Administration

[A-570-806]

Silicon Metal From the People's Republic of China: Amended Final Results of Antidumping Duty Administrative Review

AGENCY: Import Administration, International Trade Administration, Department of Commerce.

SUMMARY: On January 19, 2011, the Department of Commerce (“Department”) published the final results of the antidumping duty administrative review of silicon metal from the People's Republic of China (“PRC”). See Silicon Metal From the People's Republic of China: Final Results and Partial Rescission of the 2008-2009 Administrative Review of the Antidumping Duty Order, 76 FR 3084 (January 19, 2011) (“Final Results”). The period of review is June 1, 2008, through May 31, 2009. We are amending our Final Results to correct ministerial errors made in the calculation of the antidumping duty margin for Shanghai Jinneng International Trade Co., Ltd. (“Shanghai Jinneng”) pursuant to section 751(h) of the Tariff Act of 1930, as amended (“the Act”).

DATES: Effective Date: February 11, 2011.

FOR FURTHER INFORMATION CONTACT: Demitri Kalogeropoulos or Andrew Medley, AD/CVD Operations, Office 8, Import Administration, International Trade Administration, U.S. Department of Commerce, 14th Street and Constitution Avenue, NW., Washington, DC 20230; telephone: (202) 482-2623 and (202) 482-4987, respectively.

SUPPLEMENTARY INFORMATION:

Background

On January 21, 2011, Globe Metallurgical Inc. (“Globe”), Petitioner, submitted ministerial error allegations with respect to the Final Results of the June 1, 2008, through May 31, 2009, administrative review. On January 26, 2011, Shanghai Jinneng submitted a letter alleging that Globe's submission was not timely filed and should be rejected; it also claimed it was prejudiced by accepting Globe's ministerial allegations. On January 31, 2011, Globe submitted a response to Shanghai Jinneng's letter.

In accordance with 19 CFR 351.224(b), on January 14, 2011, the Department notified both parties of the availability of disclosure documents for pickup from the Administrative Protective Orders (“APO”) office. See Shanghai Jinneng's letter dated January 26, 2011, at Exhibit 1. According to APO office records, Mayer Brown, counsel to Shanghai Jinneng, received the disclosure documents on Friday, January 14, 2011. APO records indicate that DLA Piper, counsel to Globe, received disclosure documents on Tuesday, January 18, 2011, the next business day, because Monday, January 17, 2011, was a Federal holiday. See Memorandum to the file titled “Disclosure of Documents for Final Results” dated January 28, 2011.

The Department's regulations at 19 CFR 351.224(c)(ii) state that a party to the proceeding must file comments concerning ministerial errors within five days after the date on which the Secretary released disclosure documents to that party. Because the Secretary released the disclosure documents on January 14, 2011, ministerial error allegations were due on January 19, 2011. However, 19 CFR 351.302(b) provides that, unless expressly precluded by statute, the Secretary may, for good cause, extend any time limit established by this part.

We have determined that good cause exists for extending the deadline set forth in 19 CFR 351.224(c) and accepting Globe's ministerial error allegations, which were filed on January 21, 2011. In its January 31, 2011 letter, counsel for Globe states that it was not able to receive the documents on the day of release because it did not have a messenger available who was authorized to handle APO documents, and was informed by a Department official on Tuesday, January 18, 2011, that the five-day period for submitting ministerial error allegations began on January 18, 2011. While the Department finds that because it informed Globe that the five-day period began on January 18, 2011, rather than January 14, 2011, it should have informed Shanghai Jinneng that the deadline had been extended, we disagree with Shanghai Jinneng that it has been prejudiced. Shanghai Jinneng neither submitted ministerial error allegations nor requested that the January 19, 2011, deadline be extended so that it could file allegations after this deadline. In addition, Shanghai Jinneng was able to respond to Globe's allegations, and did comment on its submission on January 26, 2011. For these reasons, the Department has determined that good cause exists to extend the deadline and has accepted Globe's ministerial error allegations.

Ministerial Errors

A ministerial error as defined in section 751(h) of the Act includes “errors in addition, subtraction, or other arithmetic function, clerical error resulting from inaccurate copying, duplication, or the like, and any other type of unintentional error which the administering authority considers ministerial.” See also 19 CFR 351.224(f).

After analyzing Globe's comments, we have determined, in accordance with 19 CFR 351.224(e), that ministerial errors existed in certain calculations in the Final Results. Correction of these errors results in a change to Shanghai Jinneng's final antidumping duty margin. For a detailed discussion of these ministerial errors, as well as the Department's analysis, see Final Results of the 2008-2009 Administrative Review of the Antidumping Duty Order for Silicon Metal from the People's Republic of China: Allegation of Ministerial Errors, dated concurrently with this notice (“Ministerial Error Memo”). The Ministerial Error Memo is on file in the Central Records Unit, room 7046 in the main Department building.

Therefore, in accordance with section 751(h) of the Act and 19 CFR 351.224(e), we are amending the Final Results of the administrative review of silicon metal from the PRC. Listed below is the revised weighted-average dumping margin resulting from these amended final results:

Exporter | Original final margin | Amended final margin
Shanghai Jinneng International Trade Co., Ltd | 3.14% | 3.30%

Disclosure

We will disclose the calculations performed for these amended final results within five days of the date of publication of this notice to interested parties in accordance with 19 CFR 351.224(b).

Assessment Rate

Pursuant to section 751(a)(2)(A) of the Tariff Act of 1930, as amended (“Act”), and 19 CFR 351.212(b), the Department will determine, and U.S. Customs and Border Protection (“CBP”) shall assess, antidumping duties on all appropriate entries of subject merchandise in accordance with the final results of this review. For assessment purposes, we calculated importer (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer (or customer's) entries of subject merchandise without regard to antidumping duties, in accordance with 19 CFR 351.106(c)(2). The Department intends to issue appropriate assessment instructions directly to CBP 15 days after publication of the amended final results of these reviews.

Cash Deposit Requirements

The following cash deposit requirements will be effective retroactively on any entries made on or after January 19, 2011, the date of publication of the Final Results, for all shipments of the subject merchandise entered, or withdrawn from warehouse, for consumption on or after the publication date, as provided for by section 751(a)(2)(C) of the Act: (1) For Shanghai Jinneng, the cash deposit rate will be the amended final margin rate shown above in the “Ministerial Errors” section of this notice; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 139.49 percent; and (4) for all non-PRC exporters of subject merchandise which have not received their own rate, the cash deposit rate will be the rate applicable to the PRC exporters that supplied that non-PRC exporter. These deposit requirements shall remain in effect until further notice.

These amended final results are published in accordance with sections 751(h) and 777(i)(1) of the Act.

Dated: February 7, 2011.
Ronald K. Lorentzen,
Deputy Assistant Secretary for Import Administration.

[FR Doc. 2011-3135 Filed 2-10-11; 8:45 am]

BILLING CODE P